Proclamation 8968 of April 30, 2013

National Foster Care Month, 2013

By the President of the United States of America

A Proclamation

As a Nation, we have no task more important than ensuring our children grow up healthy and safe. It is a promise we owe to the hundreds of thousands of youth in foster care—boys and girls who too often go without the love, protection, and stability of a permanent family. This month, we recommit to giving them that critical support, and we recognize the foster parents and professionals who work every day to lift up the children in their care toward a bright, productive future.

Thanks to those efforts, the number of young people in foster care is falling and fewer children are waiting for adoption. But even now, more than 400,000 kids are looking for permanency with caring parents. Many are struggling to find the meaningful, long-term relationships that will help them transition into adulthood. Some young men and women are aging out of the system without a permanent home, making it harder for them to get a good education, find a job, and build a better life.

To give foster youth the support they need, Americans in every community are stepping up to serve. They are mentors, teachers, faith leaders, caseworkers, advocates, family members—individuals dedicated to making a difference. As they lend their strength to our most vulnerable children, my Administration will continue to invest in services that strengthen the foster care system and encourage adoption. We will keep working to ensure every qualified caregiver has the chance to be an adoptive or foster parent. And we will support programs that help increase permanency, reduce rates of re-entry into foster care, and address the issues that bring young people in the child welfare system in the first place.

Whether as a friend, a role model, or a guardian, any of us can be a supportive adult for a child in need. As we honor the countless Americans who are answering that call to action, let us mark this month by showing children and youth in foster care the best our country has to offer.

NOW, THEREFORE, I, BARACK OBAMA, President of the United States of America, by virtue of the authority vested in me by the Constitution and the laws of the United States, do hereby proclaim May 2013 as National Foster Care Month. I call upon all Americans to observe this month by taking time to help youth in foster care and recognizing the commitment of all who touch their lives at a most challenging time.

IN WITNESS WHEREOF, I have hereunto set my hand this thirtieth day of April, in the year of our Lord two thousand thirteen, and of the Independence of the United States of America the two hundred and thirty-seventh.

[FR Doc. 2013-10748

Filed 5-2-13; 11:15 am]

Billing code 3295-F3